DEPARTMENT OF THE TREASURY

Agency Information Collection Activities; Submission for OMB Review; Comment Request; Multiple IRS Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before October 23, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Internal Revenue Service (IRS)

Title: Time and Manner of Making Certain Elections Under the Technical and Miscellaneous Revenue Act of 1988 (26 CFR 301.9100-8).

OMB Control Number: 1545-1112.

Type of Review: Revision of a currently approved collection.

Abstract: Section 301.9100-8 establishes various elections with respect to which immediate interim guidance on the time and manner of making the elections is necessary. These regulations enable taxpayers to take advantage of the benefits of various Code provisions.

Forms: None.

Affected Public: Individuals or Households.

Estimated Total Annual Burden Hours: 6,010.

Title: Election to Expense Certain Depreciable Business Assets.

OMB Control Number: 1545-1201.

Type of Review: Extension without change of a currently approved collection.

Abstract: A taxpayer may elect to treat the cost of any section 179 property as an expense which is not chargeable to capital account. Any cost so treated shall be allowed as a deduction for the taxable year in which the section 179 property is placed in service. The regulations provide rules on the election described in section 179(b)(4); the apportionment of the dollar limitation among component members of a controlled group; the proper order for deducting the carryover of disallowed deduction; and the maintenance of information which permits the specific identification of each piece of section 179 property and reflects how and from whom such property was acquired and when such property was placed in service. The recordkeeping and reporting is necessary to monitor compliance with the section 179 rules.

Forms: None.

Affected Public: Individuals or Households.

Estimated Total Annual Burden Hours: 3,015,000.

Title: Disabled Access Credit.

OMB Control Number: 1545-1205.

Type of Review: Extension without change of a currently approved collection.

Abstract: Code section 44 allows eligible small businesses to claim a non-refundable income tax credit of 50% of the amount of eligible access expenditures for any tax year that exceed $250 but do not exceed $10,250. Form 8826 figures the credit and the tax limit.

Forms: 8826.

Affected Public: Businesses or other for Profits.

Estimated Total Annual Burden Hours: 89,027.

Title: PS-78-91 (TD 8521) (TD 8859) Procedures for Monitoring Compliance with Low-Income Housing Credit Requirements; PS-50-92 Rules to Carry Out the Purposes of Section 42 and for Correcting.

OMB Control Number: 1545-1357.

Type of Review: Extension without change of a currently approved collection.

Abstract: The regulations require state allocation plans to provide a procedure for state and local housing credit agencies to monitor for compliance with the requirements of section 42 and report any noncompliance to the IRS; covers the Secretary's authority to provide guidance under section 42, and provide for the correction of administrative errors and omissions made in connection with allocations of low-income housing credit dollar amounts and recordkeeping within a reasonable period after their discovery, and regulations that affect State and local housing credit agencies, owners of building projects for which the low income housing credit is allocated, and taxpayers claiming the low-income housing credit.

Forms: None.

Affected Public: Businesses or other for-profits; State, local, and tribal governments.

Estimated Total Annual Burden Hours: 104,899.

Title: Form 3911—Taxpayer Statement Regarding Refund.

OMB Control Number: 1545-1184.

Type of Review: Extension without change of a previously approved collection.

Abstract: If taxpayer inquires about their non-receipt of refund (or lost or stolen refund) and the refund has been issued, the information and taxpayer signature are needed to begin tracing action.

Forms: Form 3911.

Affected Public: Individuals or Households.

Estimated Total Annual Burden Hours: 16,600.

Title: Source of Income From Sales of Inventory and Natural Resources Produced in One Jurisdiction and Sold in Another Jurisdiction.

OMB Control Number: 1545-1476.

Type of Review: Extension without change of a currently approved collection.

Abstract: Section 863(a) authorizes the Secretary to promulgate regulations allocating and apportioning to U.S. or foreign sources all items of income not described in sections 861 and 862. The regulations provide rules for determining the amount of U.S. or foreign source income from cross border sales. The regulations provide amendments to the existing regulations. Section 1.863 l(b)(6) requires a statement to be attached to a return explaining the methodology used to determine fair market value and any additional production activities performed by the taxpayer, and § 1.863 3(e)(2) requires a taxpayer who uses a method to determine income attributed to production activities and sales (as described in § 1.863 3(b)), must fully explain in a statement attached to the return the methodology used, the circumstances justifying use of that methodology, the extent that sales are aggregated, and the amount of income allocated. This information is used to enable the IRS to determine if the taxpayer has properly determined the source of its income.

Forms: None.

Affected Public: Businesses or other for-profits.

Estimated Total Annual Burden Hours: 1,250.

Title: TD 9595 (REG-141399-07) Consolidated Overall Foreign Losses, Separate Limitation Losses, and Overall Domestic Losses.

OMB Control Number: 1545-1634.

Type of Review: Extension without change of a currently approved collection.

Abstract: These regulations provide rules for the apportionment of a consolidated group's overall domestic loss (CODL), overall foreign loss (COFL) and separate limitation loss (CSLL) accounts to a departing member. The regulations affect consolidated groups of corporations that compute the foreign tax credit limitation or that dispose of property used in a foreign trade or business.

Forms: None.

Affected Public: Businesses or other for-profits.

Estimated Total Annual Burden Hours: 3,000.

Title: Exclusions From Gross Income of Foreign Corporations.

OMB Control Number: 1545-1677.

Type of Review: Extension without change of a currently approved collection.

Abstract: This document contains rules implementing the portions of section 883(a) and (c) of the Internal Revenue Code that relate to income derived by foreign corporations from the international operation of a ship or ships or aircraft. The rules provide, in general, that a foreign corporation organized in a qualified foreign country and engaged in the international operation of ships or aircraft shall exclude qualified income from gross income for purposes of United States Federal income taxation, provided that the corporation can satisfy certain ownership and related documentation requirements.

Forms: None.

Affected Public: Businesses or other for-profits.

Estimated Total Annual Burden Hours: 23,900.

Title: Revenue Procedure 2001-56, Demonstration Automobile Use.

OMB Control Number: 1545-1756.

Type of Review: Extension without change of a currently approved collection.

Abstract: This revenue procedure provides optional simplified methods for determining the value of the use of demonstration automobiles provided to employees by automobile dealerships.

Forms: None.

Affected Public: Businesses or other for-profits.

Estimated Total Annual Burden Hours: 100,000.

Title: Disclosure of Returns and Return Information by Other Agencies.

OMB Control Number: 1545-1757.

Type of Review: Extension without change of a currently approved collection.

Abstract: In general, under the regulations, the IRS is permitted to authorize agencies with access to returns and return information under section 6103 of the Internal Revenue Code to redisclose returns and return information based on a written request and with the Commissioner's approval, to any authorized recipient set forth in Code section 6103, subject to the same conditions and restrictions, and for the same purposes, as if the recipient had received the information from the IRS directly.

Forms: None.

Affected Public: State, Local, and Tribal Governments.

Estimated Total Annual Burden Hours: 11.

Title: Form 8886, Reportable Transaction Disclosure Statement; Form 14234, Pre-CAP and CAP Application Form.

OMB Control Number: 1545-1800.

Type of Review: Extension without change of a currently approved collection.

Abstract: Form 8886: Regulations section 1.6011-4 provides that certain taxpayers must disclose their direct or indirect participation in reportable transactions when they file their Federal income tax return. Pre-CAP and CAP Application Form (Form 14234): The Compliance Assurance Process (CAP) is a strictly voluntary program available to Large Business and International (LB&I) Division taxpayers that meet the selection criteria. CAP is a real-time review of completed business transactions during the CAP year with the goal of providing certainty of the tax return within 90 days of the filing. Taxpayers in CAP are required to be cooperative and transparent and report all material issues and items related to completed business transactions to the review team.

Forms: 8886, 14234.

Affected Public: Businesses or other for-profits.

Estimated Total Annual Burden Hours: 913,698.

Title: Form 13551—Application to Participate in the IRS Acceptance Agent Program.

OMB Control Number: 1545-1896.

Type of Review: Revision of a currently approved collection.

Abstract: The Internal Revenue Service will collect on Form 13551, information from individuals or an entity to enable the IRS to determine whether persons qualify as acceptance agent or a certified acceptance agent. The collection of information is required to obtain an acceptance agent agreement. The use of acceptance agents is in accordance with section 301.6109-1(d)(3)(iv) of the Regulations..

Forms: 13551.

Affected Public: Individuals or Households.

Estimated Total Annual Burden Hours: 6,413.

Title: Notice 2005-4, Fuel Tax Guidance, as modified.

OMB Control Number: 1545-1915.

Type of Review: Extension without change of a currently approved collection.

Abstract: Notice 2005-4 provides guidance on certain excise tax provisions in the Internal Revenue Code that were added or affected by the American Jobs Creation Act of 2004 (Pub. L. 108-357) (Act). These provisions relate to: Alcohol and biodiesel fuels; the definition of off-highway vehicles; aviation-grade kerosene; claims related to diesel fuel used in certain buses; the display of registration on certain vessels; claims related to sales of gasoline to state and local governments and nonprofit educational organizations; two party exchanges of taxable fuel; and the classification of transmix and certain diesel fuel blendstocks as diesel fuel. Subsequent modifications were made to Notice 2005-4, by Notice 2005-24 and 2005-62 to make corrections and provide additional guidance. Notice 2005-80 modifies 2005-4 to provide guidance on certain excise tax provisions added or affected by the Energy Policy Act of 2005 (Pub. L 109-58) and the Safe, Accountable, Flexible, Efficient Transportation Equity Act (Pub. L. 109-59).

Forms: None.

Affected Public: Businesses or other for-profits.

Estimated Total Annual Burden Hours: 76,190.

Title: Designated Roth Contributions to Cash or Deferred Arrangements Under Section 401(k).

OMB Control Number: 1545-1931.

Type of Review: Extension without change of a currently approved collection.

Abstract: The final regulations provide special rules relating to designed Roth contributions under a section 401(k) plan. Under section 1.401(k)-l(f)(1) or the regulations, one of the requirements that must be met for contributions to be considered designated Roth contribution is that they must be maintained by the plan in a separate account. Section 1.401(k)-1(f)(3) of the regulations provides that, under the separate accounting requirement, contributions and withdrawals of designated Roth contributions must be credited and debited to a designated Roth contribution account maintained for the employee who made the designation and the plan must maintain a record of the employee's investment in the contract employee's designated Roth contribution account.

Forms: None.

Affected Public: State, Local, and Tribal Governments.

Estimated Total Annual Burden Hours: 157,500.

Title: Late Filing of Certification or Notices.

OMB Control Number: 1545-2098.

Type of Review: Extension without change of a currently approved collection.

Abstract: As a means of assuring payment of taxes under section 897, section 1445(a) requires the transferee of a U.S. real property interest to withhold 10 percent of the amount realized by the foreign person on the disposition of the U.S. real property interest. Other provisions of section 1445 require withholding on certain distributions by certain entities. This revenue procedure provides a simplified method for taxpayers to request relief for late filings under sections 1.897-2(g)(1)(ii)(A), 1.897-2(h), 1.1445-2(c)(3)(i), 1.1445-2(d)(2), 1.1445-5(b)(2), and 1.1445-5(b)(4) of the Income Tax Regulations.

Forms: None.

Affected Public: Businesses or other for-profits.

Estimated Total Annual Burden Hours: 1,000.

Title: Form 15597—Foreclosure Sale Purchaser Contact Information Request.

OMB Control Number: 1545-2199.

Type of Review: Extension without change of a currently approved collection.

Abstract: This form is used to gather contact information of the purchaser from a 3rd party foreclosure sale when the IRS is considering the redemption of the property.

Forms: 15597.

Affected Public: Businesses or other for-profits.

Estimated Total Annual Burden Hours: 613.

Title: Form 8940—Request for Miscellaneous Determination.

OMB Control Number: 1545-2211.

Type of Review: Extension without change of a currently approved collection.

Abstract: Form 8940 standardizes information collection procedures for 9 categories of individually written requests for miscellaneous determinations now submitted to the Service by requestor letter. Respondents are exempt organizations.

Forms: 8940.

Affected Public: Not-for-profit institutions.

Estimated Total Annual Burden Hours: 28,959.

Authority: 44 U.S.C. 3501 et seq.

Dated: September 15, 2017.
Jennifer P. Leonard,
Treasury PRA Clearance Officer.

[FR Doc. 2017-20091 Filed 9-20-17; 8:45 am]

BILLING CODE 4830-01-P